DEPARTMENT OF AGRICULTURE

Farm Service Agency

Request for Revision and Extension of a Currently Approved Information Collection; Servicing Minor Program Loans

AGENCY: Farm Service Agency, USDA.

ACTION: Notice and request for comments.

SUMMARY: In accordance with the Paperwork Reduction Act of 1995, this notice announces the intent of the Farm Service Agency (FSA) to request renewal of the information collection currently approved and used in support of the FSA Farm Loan Programs (FLP).

DATES: Comments on this notice must be received on or before June 12, 2006, to be assured consideration.

FOR FURTHER INFORMATION CONTACT: Mel Thompson, USDA, Farm Service Agency, Loan Servicing and Property Management Division, 1400 Independence Avenue, SW., STOP 0523, Washington, DC 20250-0523; Telephone (202) 720-7862; Electronic mail: mel.thompson@wdc.usda.gov.

SUPPLEMENTARY INFORMATION: Title: Servicing Minor Program Loans.

OMB Control Number: 0560-0230.

Expiration Date: November 30, 2006.

Type of Request: Revision and Extension of a Currently Approved Information Collection.

Abstract: Section 331 of the Consolidated Farm and Rural Development Act, 7 U.S.C. 1981, (“CONACT”) in part, authorizes the Secretary of Agriculture to modify, subordinate and release terms of security instruments, leases, contracts, and agreements entered into by FSA. That section also authorizes transfers of security property, as the Secretary deems necessary, to carry out the purpose of the loan or protect the Government's financial interest. Section 335 of the CONACT (7 U.S.C. 1985), provides servicing authority for real estate security; operation or lease of realty; disposition of property; conveyance of real property interest of the United States; easements; and condemnations. The information collection relates to a program benefit recipient or loan borrower requesting action on security they own, which was purchased with FSA loan funds, improved with FSA loan funds or has otherwise been mortgaged to FSA to secure a Government loan. The information collected is primarily financial data not already on file, such as borrower asset values, current financial information and public use and employment data.

Estimate of Annual Burden: Public reporting burden for this collection of information is estimated to average .52 hours per response.

Respondents: Individuals, associations, partnerships, or corporations.

Estimated Number of Respondents: 226.

Estimated Number of Responses per Respondent: 1.

Estimated Total Annual Burden on Respondents: 117.5 hours.

Comments are invited on: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology. These comments should be sent to the Desk Officer for Agriculture, Office of Information and Regulatory Affairs, Office of Management and Budget, Washington, DC 20503 and to Mel Thompson, Senior Loan Officer, USDA, FSA, Farm Loan Programs, Loan Servicing Division, 1400 Independence Avenue, SW., STOP 0523, Washington, DC 20250-0523.

Comments will be summarized and included in the request for Office of Management and Budget approval of the information collection. All comments will also become a matter of public record.

Signed in Washington, DC, on April 6, 2006.
Teresa C. Lasseter,
Administrator, Farm Service Agency.

[FR Doc. E6-5466 Filed 4-12-06; 8:45 am]

BILLING CODE 3410-05-P